DEPARTMENT OF TRANSPORTATION

Federal Highway Administration

[Docket No. FHWA-2009-0131]

Agency Information Collection Activities: Notice of Request for Extension of Currently Approved Information Collection

AGENCY: Federal Highway Administration (FHWA), DOT.

ACTION: Notice of request for extension of currently approved information collection.

SUMMARY: The FHWA invites public comments about our intention to request the Office of Management and Budget's (OMB) approval for changes to a currently approved information collection that is summarized below under SUPPLEMENTARY INFORMATION. We are required to publish this notice in the Federal Register by the Paperwork Reduction Act of 1995.

DATES: Please submit comments by February 16, 2010.

ADDRESSES: You may submit comments identified by DOT Docket ID Number FHWA-2009-0131, by any of the following methods:

Web Site: For access to the docket to read background documents or comments received, go to the Federal eRulemaking Portal: http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Gary Jensen, 202-366-2048 or Kenneth Petty, 202-366-6654, Office of Planning, Environment, and Realty, Federal Highway Administration, Department of Transportation, 1200 New Jersey Avenue, SE., Washington, DC 20590. Office hours are from 7:45 a.m. to 4:15 p.m., Monday through Friday, except Federal holidays.

SUPPLEMENTARY INFORMATION: Title: Transportation, Community, and System Preservation Program Grant Application. Delta Region Transportation Development Program Grant Application. Transportation Planning Excellence Awards Nomination Form.

OMB Control #: 2125-0615.

Background: Transportation, Community, and System Preservation Program Grant Application: Section 1117 of the Safe, Accountable, Flexible, Efficient Transportation Equity Act: A Legacy for Users (SAFETEA-LU) provides funding for the Transportation, Community, and System Preservation (TCSP) Program. The TCSP Program is a comprehensive initiative of research and grants to investigate the relationships between transportation, community, and system preservation plans and practices and identify sector-based initiatives to improve such relationships. States, metropolitan planning organizations, local governments, and tribal governments are eligible for discretionary grants to carry out eligible projects to integrate transportation, community, and system preservation plans and practices that:

• Improve the efficiency of the transportation system of the United States.

• Reduce environmental impacts of transportation.

• Reduce the need for costly future public infrastructure investments.

• Ensure efficient access to jobs, services, and centers of trade.

• Examine community development patterns and identify strategies to encourage private sector development patterns and investments that support these goals.

The 2-page TCSP grant application is the tool used to collect the necessary information needed to successfully submit eligible TCSP Program projects to the Secretary of Transportation for approval and for the distribution of TCSP funds. The TCSP grant application includes four parts: (A) Project Information—General contact and funding information, (B) Project Abstract—Overview of the purpose and intent of project, (C) Project Narrative—Description of the project and the expected results, and (D) Project Eligibility—Discussion of how the project meets statutory eligibility.

The TCSP Program is a discretionary program. However in some years, the projects awarded TCSP Program funding have been designated by Congress. In order to comply with Congressional designation, the FHWA Division offices will continue to be asked to identify the intended recipient of the TCSP designated grant. The specified grant recipient would then be asked to complete the grant application each fiscal year that they receive TCSP funding and submit it electronically.

Background: Delta Region Transportation Development Program Grant Application

Section 1117 of the Safe, Accountable, Flexible, Efficient Transportation Equity Act: A Legacy for Users (SAFETEA-LU) provides funding for the Delta Region Transportation Development Program (DRTDP). The DRTDP supports and encourages multistate transportation planning and corridor development, provides for transportation project development, facilitates transportation decision making and supports transportation construction in the eight States comprising the Delta Region (Alabama, Arkansas, Illinois, Kentucky, Louisiana, Mississippi, Missouri, and Tennessee). A State transportation department or metropolitan planning organization in a Delta Region State may receive and administer funds provided under the program.

The 2-page DRTDP grant application is the tool used to collect the necessary information needed to successfully submit eligible DRTDP projects to the Secretary of Transportation for approval and for the distribution of DRTDP funds. The DRTDP grant application collects project information including general contact and funding information, a narrative project description, and information regarding statutory eligibility.

The DRTDP Program is a discretionary program. However in some years, the projects awarded DRTDP Program funding have been designated by Congress. In order to comply with Congressional designation, the FHWA Division offices will continue to be asked to identify the intended recipient of the DRTDP designated grant. The specified grant recipient would then be asked to complete the grant application each fiscal year that they receive DRTDP funding and submit it electronically.

Background: Transportation Planning Excellence Awards Nomination Form

The Transportation Planning Excellence Awards (TPEA) Program is a biennial awards program developed by the FHWA and the Federal Transit Administration (FTA) to recognize outstanding initiatives across the country to develop, plan and implement innovative transportation planning practices. The program is co-sponsored by the American Planning Association.

The on-line TPEA nomination form is the tool for submitters to nominate a process, group, or individual involved in a project or process that has used the FHWA and/or the FTA funding sources to make an outstanding contribution to the field of transportation planning. The information about the process, group or individual provided by the submitter may be shared and published if that submission is selected for an award.

The TPEA Program is a biennial awards program and individuals will be asked to submit nominations via the online form every two years. The participants will provide their information by means of the Internet.

Respondents: For the TCSP Program, 200 participants annually. For the DRTDP Program, 20 participants annually. For the TPEA, 150 participants biennially.

Frequency: For the TCSP Program, grant applications are solicited on an annual basis. For the DRTDP, grant applications are solicited on an annual basis. For the TPEA, nominations are solicited every two years.

Estimated Average Burden per Response: For the TCSP Program, approximately 120 minutes. For the DRTDP, approximately 90 minutes. For the TPEA Program, approximately 90 minutes.

Estimated Total Annual Burden Hours: For the TCSP Program, 400 hours annually. For the DRTDP, 30 hours annually. TPEA, 225 hours in the first year and 225 hours in the third year.

Authority: The Paperwork Reduction Act of 1995; 44 U.S.C. Chapter 35, as amended; and 49 CFR 1.48.

Issued on: December 11, 2009.
Tina Campbell,
Acting Chief, Management Programs and Analysis Division.

[FR Doc. E9-30031 Filed 12-16-09; 8:45 am]

BILLING CODE P